DEPARTMENT OF COMMERCE

National Oceanic and Atmospheric Administration

[I.D. 081505A]

North Pacific Fishery Management Council; Public Meeting

AGENCY: National Marine Fisheries Service (NMFS), National Oceanic and Atmospheric Administration (NOAA), Commerce.

ACTION: Notice of a committee meeting.

SUMMARY: The North Pacific Fishery Management Council's (Council) Crab Plan Team will meet in Anchorage, AK.

DATES: The meeting will be held on September 7-9, 2005. The meeting will begin on Wednesday, September 7, from 9 a.m. to 5 p.m., and continue on Thursday, September 8, from 9 a.m. to 5 p.m., and Friday, September 9, from 9 a.m. to 2 p.m.

ADDRESSES: The meeting will be held at the Anchorage Hilton Hotel, Lupine Room, 500 West 3rd Avenue, Anchorage, AK.

Council address: North Pacific Fishery Management Council, 605 W. 4th Ave., Suite 306, Anchorage, AK 99501-2252.

FOR FURTHER INFORMATION CONTACT: Diana Stram, North Pacific Fishery Management Council; telephone: (907) 271-2809.

SUPPLEMENTARY INFORMATION: The committee's agenda includes the following: Update on Information Quality Act relevance to Crab Plan Team role in reviewing stock assessment products, Review of state/federal action plan, Review summer research including: NMFS survey, Bering Sea Fishery Research Foundation survey; snow crab tagging results. Model and assessment results on Golden King crab, Red King crab and Snow crab. Review Status of stocks, stock status relative to overfishing, and current harvest strategies, state annual management reports, review, revise, compile Stock Assessment Fishery Evaluation Report. Review progress on revised overfishing definitions, Bairdi Tanner crab harvest strategy and rebuilding plan, review membership issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen, 907-271-2809, at least 5 working days prior to the meeting date.

Dated: August 17, 2005.
Emily Menashes,
Acting Director, Office of Sustainable Fisheries, National Marine Fisheries Service.

[FR Doc. E5-4557 Filed 8-19-05; 8:45 am]

BILLING CODE 3510-22-S